DEPARTMENT OF HEALTH AND HUMAN SERVICES

Centers for Disease Control and Prevention

[60Day-09-09BU]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Adult Tobacco Survey (NATS)—New—National Center for Chronic Disease Prevention and Health Promotion (NCCDPHP), Centers for Disease Control and Prevention (CDC).

Background and Brief Description

Despite the high level of public knowledge about the adverse effects of smoking, tobacco use remains the leading preventable cause of disease and death in the United States. Tobacco use results in approximately 440,000 deaths annually, including approximately 38,000 deaths from secondhand smoke exposure. Adults who smoke contribute to $92 billion annually in lost worker productivity, and die an average of 14 years earlier than nonsmokers. Although the prevalence of current smoking among adults decreased significantly from 1998 to 2007 in 44 states, the District of Columbia, and Puerto Rico, only one state and one territory have met Healthy People 2010 targets for reducing adult smoking prevalence to 12%, and six states have shown no substantial changes in prevalence after controlling for age, sex, and race/ethnicity.

The National Tobacco Control Program (NTCP) was established by CDC to help reduce tobacco-related disease, disability, and death. The NTCP's four goal areas are: (1) The prevention of initiation of tobacco use among young people, (2) the elimination of nonsmokers' exposure to secondhand smoke, (3) the promotion of quitting among adults and young people, and (4) the elimination of tobacco-related disparities.

CDC proposes to conduct the National Adult Tobacco Survey (NATS) in order to collect essential information on key indicators of the effectiveness for the NTCP. The NATS will be a one-time, stratified, random-digit dialed telephone survey of non-institutionalized adults 18 years of age and older. In order to yield results that are representative and comparable at both national and state levels, information will be collected from 3,000 respondents per state and the District of Columbia. In addition, a total of approximately 3,000 interviews will be conducted specifically from a national sample of cell phone users in an attempt to include the growing population of households that exclusively use cell phones and would be missed in a survey relying only on land-lines.

Information collected through the NATS will be used to: (1) Generate state-level estimates of tobacco use for males and females, (2) generate state-level estimates of tobacco use for minority groups comprising a major component of a given state's population, (3) develop estimates of tobacco use at the national level by gender and race/ethnicity, and (4) support the evaluation of comprehensive state-based Tobacco Control Programs using key outcome indicators at the state and national levels. Study results will have significant implications for the development of policies and programs aimed at preventing or reducing tobacco use. There are no costs to respondents except their time.

Estimated Annualized Burden Hours
Type of respondent | Form name | Number of respondents | Number of responses per respondent | Average burden per response (in hours) | Total burden (in hours)
Adults ages 18 or older | National Adult Tobacco Survey | 156,000 | 1 | 22/60 | 57,200

Dated: June 1, 2009.
Maryam I. Daneshvar,
Acting Reports Clearance Officer, Centers for Disease Control and Prevention.

[FR Doc. E9-13301 Filed 6-5-09; 8:45 am]

BILLING CODE 4163-18-P